DEPARTMENT OF DEFENSE

Department of the Air Force

Active Duty Service Determinations for Civilian or Contratual Groups

SUMMARY: On September 24, 2008, the Secretary of the Air Force, acting as Executive Agent of the Secretary of Defense, determined that the service of the group known as the “Vietnamese Citizens Who Served in Vietnam Under Contract With the U.S. Armed Forces and Were Assigned to Reconnaissance Teams and Exploitation Forces Within the Military Assistance Command, Studies and Observations Group (MACVSOG), Ground Operations OP-35, Command and Control (C&C), From January 1964 to April 1972.”

Shall not be considered “active duty” for purposes of all laws administered by the Department of Veterans Affairs (VA).

FOR FURTHER INFORMATION CONTACT: Contact Mr. James D. Johnston at the Secretary of the Air Force Personnel Council (SAFPC); 1535 Command Drive, EE Wing, 3d Fl.; Andrews AFB, MD 20762-7002.

Bao-Anh Trinh,
Air Force Federal Register Liaison Officer.

[FR Doc. E8-23966 Filed 10-8-08; 8:45 am]

BILLING CODE 5001-05-P